FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel—Operating Common Carrier Ocean Transportation Intermediary Applicants:

Rucky International Company, 149 Isabelle Street, Metuchen, NJ 08840. Officer: Amarasena Anura Rupasinghe, President, (Qualifying Individual).

Fast Track Everlast Shipping & Delivery, 5406 Park Heights Avenue, Baltimore, MD 21215, Montgomery Davson, Sole Proprietor.

Miriam Family Cargo Inc., 18 NW. 12th Avenue, Miami, FL 33128. Officers: Miriam Bennett, President, (Qualifying Individual), Randy Bennett, Vice President.

International Specialists Worldwide Moving, Inc., 8227 Oak Street, Suite A, New Orleans, LA 70118. Officers: Joseph L. Williams, Vice President, (Qualifying Individual), Gaylen Harris, President.

K.C. Consulting, Inc., 36565 Nathan Hale Drive, Lake Villa, IL 60046. Officer: Kazimierz Chudecki, President, (Qualifying Individual).

Non-Vessel-Operating Common Carrier and Ocean Freight Forwarder Transportation Intermediary Applicants:

DFYoung-Del Med, Inc., 1235 West Lakes Drive, Suite 255, Berwyn, PA 19312-2401. Officers: Aaron Wesley Wyatt, IV, Vice President, (Qualifying Individual), John Hardy, President.

Jam'n International Cargo Inc., 3414 South Garfield Avenue, Commerce, CA 90040. Officers: Jon Winston Liu, Vice Pres. Of Operations, (Qualifying Individual), John Watkins, President.

Customs & Logistics International, Inc. dba Customs & Logistics Ocean Lines, 85555 NW. 36th Street, Suite 115, Miami, FL 33166. Officer: Carlos A. Francisco, President, (Qualifying Individual).

Ocean Freight Forwarder—Ocean Transportation Intermediary Applicants:

Via Mat International (USA) Inc., 130 Sheridan Blvd., Inwood, NY 11096. Officers: Joachim (Joe) Nuebling, President, (Qualifying Individual), Victor Moser, Director.

Carlos Trucks & Parts dba Carmen's Cargo, 8235 Pillot Drive, Houston, TX 77029, Carmen E. Botero, Sole Proprietor.

Dated: September 2, 2005.
Bryant L. VanBrakle,
Secretary.

[FR Doc. 05-17813 Filed 9-7-05; 8:45 am]

BILLING CODE 6730-01-P